FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transaction were granted early termination of the waiting period provided by law and the premerger notification rules. The grants were made by the Federal Trade Commission and the Assistant Attorney General for the Antitrust Division of the Department of Justice. Neither agency intends to take any action with respect to these proposed acquisitions during the applicable waiting period.

Transaction Granted Early Termination
ET date | Trans Num | ET REQ Status | Party Name
07-AUG-03 | 20030813 | G | Liberty Media Corporation
|  | G | Comcast Corporation
|  | G | QVC, Inc.
| 20030814 | G | Richard B. Cohen
|  | G | Fleming Companies, Inc.
|  | G | Fleming Transportation Service, Inc.
|  | G | Fleming Foods of Texas L.P.
|  | G | Fleming Foods Management Co., L.L.C.
|  | G | RFS Marketing Services, Inc.
|  | G | Piggly Wiggly Company
|  | G | Fleming International Ltd.
| 20030825 | G | Boralex Power Income Fund
|  | G | Black Hills Corporation
|  | G | Northern Electric Power Co., L.P.
|  | G | South Glens Falls Limited Partnership
| 20030826 | G | Boralex Power Income Fund
|  | G | William Rockford
|  | G | Northern Electric Power Co., L.P.
|  | G | South Glens Falls Limited Partnership
08-AUG-03 | 20030754 | G | The Black & Decker Corporation
|  | G | Masco Corporation
|  | G | Weiser Lock Corporation
|  | G | Baldwin Hardware Corporation
|  | G | Baldwin Hardware Service, LLC
29-JUL-03 | 20030647 | G | Grupo TMM, S.A.
|  | G | Kansas City Southern
|  | G | Kansas City Southern
| 20030806 | G | Cooperative De Serguros Mutiples De Puerto Rico
|  | G | Royal & Sun Alliance Insurance Group plc
|  | G | Royal & Sun Alliance Insurance (Puerto Rico), Inc.
| 20030815 | G | Sandler Capital Partners V, L.P.
|  | G | Paul G. Allen
|  | G | Charter Communications, L.P.
30-JUL-03 | 20030762 | G | J.W. Childs Equity Partners II, L.P.
|  | G | Keith E. Loiselle
|  | G | CDL Medical Technologies, Inc.
| 20030794 | G | Florida Rock Industries, Inc.
|  | G | Lafarge S.A.
|  | G | Lafarge Florida Inc.
| 20030811 | G | Cadence Design Systems, Inc.
|  | G | Verplex Systems, Inc.
|  | G | Verplex Systems, Inc.
31-JUL-03 | 20030767 | G | Select Medical Corporation
|  | G | The Henry H. Kessler Foundation, Inc.
|  | G | Kessler Rehabilitation Corporation
| 20030778 | G | Nabi Biopharmaceuticals
|  | G | Braintree Holdings
|  | G | Braintree Laboratories, Inc.
06-AUG-03 | 20030789 | G | IDEC Pharmaceuticals Corporation
|  | G | Biogen, Inc.
|  | G | Biogen, Inc.
| 20030808 | G | WellPoint Health Networks Inc.
|  | G | Wisconsin United for Health Foundation, Inc.
|  | G | Cobalt Corporation
| 20030810 | G | Dean Foods Company
|  | G | Horizon Organic Holding Corporation
|  | G | Horizon Organic Holding Corporation
24-JUL-03 | 20030774 | G | ING Furman Selz Investors III L.P.
|  | G | Wabash National Corporation
|  | G | Apex Trailer Leasing & Rentals, L.P.
|  | G | Wabash National Trailer Centers, Inc.
| 20030777 | G | Code, Hennesy & Simmons IV. L.P.
|  | G | Churchill ESOP Capital Investments Partners
|  | G | Jones Stephens Corp.
| 20030797 | G | ASP Westward Partners, L.P.
|  | G | NiSource Inc.
|  | G | Primary Energy, Inc.
|  | G | Cokenergy, LLC
|  | G | Lakeside Energy, LLC
|  | G | North Lake Energy, LLC
|  | G | Portside Energy, LLC
|  | G | Ironside Energy, LLC
|  | G | Harbor Coal LLC
25-JUL-03 | 20030674 | G | Siemens AG
|  | G | ALSTOM
|  | G | ALSTOM
| 20030805 | G | Arsenal Capital Partners Qualified Purchaser Fund LP
|  | G | Wyeth
|  | G | Scientific Protein Laboratories, Inc.
| 20030807 | G | Morgan Stanley Dean Witter Capital Partners IV, L.P.
|  | G | NiSource Inc.
|  | G | Columbia Energy Resources, Inc.
| 20030812 | G | El Chico Holding Company, L.P.
|  | G | J.W. Childs Equity Partners, L.P.
|  | G | Chevys, Inc.
|  | G | Rio Bravo Acquisitions, Inc.
|  | G | Chevys New York, Inc.
|  | G | Chevys of Parsippany, Inc.
|  | G | Chevys of Greenbelt, Inc.
|  | G | Katmandu Creations, Inc.
28-JUL-03 | 20030745 | G | General Dynamics Corporation
|  | G | Veridian Corporation
|  | G | Veridian Corporation
21-JUL-03 | 20030648 | G | Deutsche Post AG
|  | G | Airborne, Inc.
|  | G | Airborne, Inc.
| 20030727 | G | Alcatel
|  | G | Avanex Corporation
|  | G | Avanex Corporation
| 20030736 | G | Avanex Corporation
|  | G | Corning Incorporated
|  | G | Corning Incorporated
| 20030737 | G | Corning Incorporated
|  | G | Avanex Corporation
|  | G | Avanex Corporation
| 20030782 | G | JLG Industries, Inc.
|  | G | Textron Inc.
|  | G | TRAK International, Inc.
| 20030793 | G | Austin Ventures VIII, L.P.
|  | G | Staktek Corporation
|  | G | Staktek Corporation
22-JUL-03 | 20030733 | G | Zimmer Holdings, Inc.
|  | G | Centerpulse Ltd.
|  | G | Centerpulse Ltd.
| 20030766 | G | Cash America International, Inc.
|  | G | Lee Schear
|  | G | Cashland, Inc.
| 20030799 | G | Timothy N. Poster
|  | G | Kirk Kerkorian
|  | G | GNLV, Corp.
|  | G | GNL, Corp.

FOR FURTHER INFORMATION CONTACT: Sandra M. Peay, Contact Representative, or Renee Hallman, Legal Technician, Federal Trade Commission, Premerger Notification Office, Bureau of Competition, Room H-303, Washington, DC 20580, (202) 326-3100.

By Direction of the Commission.
Shira Pavis Minton,
Acting Secretary.

[FR Doc. 03-21292 Filed 8-19-03; 8:45 am]

BILLING CODE 6750-01-M